DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of September 21, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Benton County, Iowa and Incorporated Areas
Docket No.: FEMA-B-2126 and B-2261
City of Vinton | City Hall, 110 West 3rd Street, Vinton, IA 52349.
Unincorporated Areas of Benton County | Benton County Courthouse, 111 East 4th Street, Vinton, IA 52349.
Olmsted County, Minnesota and Incorporated Areas
Docket No.: FEMA-B-2135
Unincorporated Areas of Olmsted County | Olmsted County Planning, Land Use, and Zoning Department, 2122 Campus Drive SE, Suite 100, Rochester, MN 55904.
Steele County, North Dakota and Incorporated Areas
Docket No.: FEMA-B-2240
City of Finley | City Hall, 208 4th Street West, Finley, ND 58230.
City of Hope | City Hall, 107 Steele Avenue, Hope, ND 58046.
City of Sharon | Steele County Courthouse, 201 Washington Avenue West, Finley, ND 58230.
Unincorporated Areas of Steele County | Steele County Courthouse, 201 Washington Avenue West, Finley, ND 58230.
Union County, Ohio and Incorporated Areas
Docket No.: FEMA-B-2248
City of Marysville | City Hall, 209 South Main Street, Marysville, OH 43040.
Unincorporated Areas of Union County | Union County Office Building, 233 West 6th Street, Marysville, OH 43040.
Village of Richwood | Municipal Building, 153 North Franklin Street, Richwood, OH 43344.
Johnson County, Texas and Incorporated Areas
Docket No.: FEMA-B-2200
City of Cleburne | City Hall, 10 North Robinson Street, Cleburne, TX 76031.
City of Mansfield | City Hall, 1200 East Broad Street, Mansfield, TX 76063.
City of Venus | City Hall, 700 West US Highway 67, Venus, TX 76084.
Unincorporated Areas of Johnson County | Johnson County Public Works Department, 2 North Mill Street, Suite 305, Cleburne, TX 76033.
Somervell County, Texas and Incorporated Areas
Docket No.: FEMA-B-2057 and FEMA-B-2207
City of Glen Rose | City Hall, Planning and Building Department, 201 Northeast Vernon Street, Glen Rose, TX 76043.
Unincorporated Areas of Somervell County | Somervell County Offices Building, 107 Northeast Vernon Street, Glen Rose, TX 76043.

[FR Doc. 2023-09790 Filed 5-8-23; 8:45 am]

BILLING CODE 9110-12-P